CORPORATION FOR NATIONAL AND COMMUNITY SERVICE

Availability of Funds for Providing Training and Technical Assistance on a National Service Web-Based Reporting System

AGENCY: Corporation for National and Community Service.

ACTION: Notice of availability of funds.

SUMMARY: The Corporation for National and Community Service (hereinafter the “Corporation”) announces (1) its intention to enter into a three-year cooperative agreement with an organization selected under this Notice to provide the training and technical assistance national service programs need to make effective use of a web-based reporting system (WBRS); and (2) the availability of up to $245,000 for the agreement's initial phase beginning on or about July 1, 2001. WBRS is an internet-based system that allows AmeriCorps grantees and sub-grantees (see Glossary in Section VI), using World-Wide-Web browsers, to transmit information about AmeriCorps members and submit periodic progress and financial status reports electronically. The system has a number of reporting functions that can be used as management tools, and includes security, audit, and surveillance features that control access, track transactions, and detect irregularities.

The organization selected under this Notice will enter into a cooperative agreement with the Corporation to provide training and technical assistance on WBRS management services to system users. This will include maintaining and administering the system; programming system enhancements; developing materials; and providing training, technical assistance, and technical support.

We expect that the initial funding will represent roughly one quarter of the first year's budget. We expect the balance for the first year to be available on or about October 1, 2001, pending Congressional appropriation. Up to two additional years of funding may be available. Applicants must submit a work plan and budget for three years, including details for Year One (as outlined below) and summary information for Years Two and Three. The maximum period of award is three years.

Note: This Notice concerns the selection of an organization to provide WBRS training and technical assistance. This is not a Notice for program grant proposals.

DATES: Proposals must be received by the Corporation at the address below by 3:00 p.m. Eastern Daylight time on April 30, 2000.

ADDRESSES: Submit proposals to the Corporation for National and Community Service, 1201 New York Avenue, NW., Washington, DC 20525, Attention: Cathy Harrison, Room 9612A.

FOR FURTHER INFORMATION CONTACT: Jim Ekstrom at the Corporation for National and Community Service, (202) 606-5000, ext. 414, TTY (202) 565-2799; e-mail jekstrom@cns.gov. This Notice is available on the Corporation's web site, http://www.nationalservice.org/whatshot/notices/. Upon request, this information will be made available in alternate formats for people with disabilities.

SUPPLEMENTARY INFORMATION:

I. Background

A. The Corporation

The Corporation for National and Community Service was established in 1993 to engage Americans of all ages and backgrounds in service to their communities. It provides assistance to organizations that carry out AmeriCorps, Learn and Serve America, and National Senior Service Corps programs. These programs provide opportunities for participants to serve full-time and part-time, with or without stipend, as individuals or as part of a team.

AmeriCorps programs engage thousands of Americans at over 1,000 locations. AmeriCorps*State and AmeriCorps*National Direct programs, which involve over 40,000 Americans each year in results-driven community service, are grant programs managed by (1) state commissions that select and oversee programs operated by local organizations; (2) national non-profit organizations that act as parent organizations for operating sites across the country; (3) U.S. Territories; or (4) Indian tribes. Through AmeriCorps* Volunteers in Service to America (VISTA) programs, about 6,000 VISTA members serve to develop grassroots programs, mobilize resources, and build capacity for service programs across the nation. The AmeriCorps* National Civilian Community Corps (NCCC) provides an opportunity for approximately 1,000 individuals between the ages of 18 and 24 to participate in a residential service program located mainly on downsized military bases.

Learn and Serve America integrates service into the academic life of more than one million youth from kindergarten through higher education. It does this by awarding grants to state education agencies, state commissions, schools, colleges and universities, nonprofit organizations, U.S. Territories, and Indian tribes to carry out school-based, community-based, and higher-education service-learning programs.

The National Senior Service Corps uses the skills, talents, and experience of over 500,000 older Americans to help make communities stronger, safer, healthier, and smarter. It operates through grants to local organizations for Retired and Senior Volunteer Programs, Foster Grandparent Programs, and Senior Companion Programs to provide service to their communities.

For additional information on the national service programs supported by the Corporation, go to http://www.nationalservice.org.

B. Web-Based Reporting System

WBRS is a mission-critical, online operating system that enables the Corporation, state commissions, national direct parent organizations, and AmeriCorps state, national direct, and NCCC programs to manage AmeriCorps activities more efficiently. Initiated in 1997 and implemented in 1999, this internet-based system permits the electronic processing of AmeriCorps member data (enrollments, status changes, exits, and education awards) and electronic reporting on project progress, expenditures, and financial match requirements. The system has other reporting functions that serve as management tools (e.g., enrollment, retention, attrition, and service-hour analyses), and includes security-protocol, audit-trail, and intelligent-agent features that control access, track transactions, and detect irregularities that could indicate fraud or mismanagement.

WBRS is a dynamic, interactive reporting system built in Lotus Notes/Domino, which makes heavy use of Java script, Lotus script, and Secure Socket Layer (SSL) programming. The system is built with approximately 200 databases comprising data from 500,000 documents, and involves over 50,000 lines of ‘CGI’ code maintained in code libraries. In total, the WBRS dataset requires approximately 40 gigabytes on three servers. Site activity is about 20,000-30,000 hits a day.

Aguirre International, Incorporated, headquartered in San Mateo, California, is the current WBRS provider. Aguirre's WBRS oversight involves staffing in the following categories: project management, information technology, programming, technical support, training, and documentation/administration. Hosting services for WBRS are currently provided by Interliant Inc., headquartered in Purchase, New York. (http://www.interliant.com).

Prospective applicants interested in becoming familiar with the function and operation of WBRS should e-mail Jim Ekstrom at the Corporation (jekstrom@cns.gov; subject WBRS NOFA) for instructions on accessing a WBRS training database and online help desk.

II. Eligibility

Public-sector agencies, non-profit organizations, institutions of higher education, Indian tribes, and for-profit companies are eligible to apply. Pursuant to the Lobbying Disclosure Act of 1995, an organization described in section 501(c)(4) of the Internal Revenue Code of 1986, 26 U.S.C. 501(c)(4), which engages in lobbying, is not eligible to apply. Organizations that operate or intend to operate Corporation-supported programs are eligible. The Corporation will consider proposals from single applicants and applicants in partnership. Organizations may apply to provide the services required by this Notice in partnership with organizations seeking other Corporation funds. Based on previous training and technical assistance competitions and the Corporation's estimate of potential applicants, the Corporation expects fewer than ten applications to be submitted in response to this Notice.

III. Period of Assistance and Other Conditions

A. Cooperative Agreement

Funding awarded under this Notice will be via cooperative agreement. Administration of cooperative agreements is controlled by the Corporation's regulations, 45 CFR part 2541 (for agreements with state and local government agencies) and 45 CFR part 2543 (for agreements with institutions of higher education, non-profit organizations, and other entities). The awardee must comply with reporting requirements, including submitting semi-annual financial reports and semi-annual progress reports linking progress on deliverables to expenditures.

B. Use of Materials

To ensure that materials generated for training and technical assistance purposes are available to the public and readily accessible to grantees and sub-grantees, the Corporation retains royalty-free, non-exclusive, and irrevocable license to obtain, use, reproduce, publish or disseminate products, including data produced under the agreement, and to authorize others to do so. To the extent practicable, the awardee must agree to make products available to the national service field as identified by the Corporation at no cost or at the cost of reproduction. All materials developed at the Corporation's request must be produced consistent with Corporation editorial and publication guidelines.

C. Time Frame

The Corporation expects that work under the agreement awarded through this Notice will commence on or about July 1, 2001, following the conclusion of the Corporation's selection and award process. The Corporation will make an award covering a period not to exceed three years. Applications must include a proposed budget and proposed activities for the entire award period, with a line-item budget and detailed work plan for the first budget year only. If the Corporation approves an application and enters into a multi-year award agreement, at the outset it will provide funding only for an initial phase of the award period. The Corporation has no obligation to provide additional funding. Additional funding is contingent upon satisfactory performance, the availability of funds, and any other criteria established in the award agreement.

D. Legal Authority

Section 198 of the National and Community Service Act of 1990, as amended, 42 U.S.C. 12653, authorizes the Corporation to provide, directly or through contracts or cooperative agreements, training and technical assistance in support of activities under the national service laws.

IV. Scope of Activities To Be Supported

A. General Requirements

The applicant selected under this Notice (the provider) must address the general requirements listed below in delivering its services.

1. Outreach

a. Develop and implement a plan to promote services to grantees and sub-grantees in collaboration with Corporation training and technical assistance staff.

b. Work with grantees and sub-grantees who request assistance to clarify their needs and determine an appropriate response.

2. Training

a. Ensure that curricula are based on an assessment of participant needs and skill levels.

b. Ensure that course outlines, descriptions, and schedules are approved by Corporation staff and, when appropriate, submitted to the National Service Resource Center (Glossary) for the national training calendar.

c. Deliver training that is interactive, experiential, and consistent with the principles of adult learning. Use train-the-trainer models and other transfer-of-skills methods to enhance the capacity of the field to function independently.

d. Ensure that training is accessible to persons with disabilities as required by law, including applicable provisions of the Electronic and Information Technology Accessibility Standards, 36 CFR part 1194, published in the Federal Register on December 21, 2000 (65 FR 80500).

e. Electronically track training requests, referrals, and services provided based on Corporation guidance.

f. Disseminate materials produced under this agreement.

g. Use other training methods, including the use of CD-ROMs, online materials, and web-based training, to complement training conducted in classroom and other in-person settings.

3. Reporting

a. Progress Report. Submit a progress report semi-annually in three copies to the Training and Technical Assistance Office beginning October 31, 2001, for the period ending September 30, 2001. During the final year of the agreement, the provider must submit, in lieu of the last semi-annual progress report, a final progress report that is cumulative over the entire award period. This final report will be due not later than 90 days after the close of the agreement, unless the Corporation approves an extension. The provider must have or develop the capacity to submit progress reports electronically. At minimum, progress reports must provide the following information:

(1) A comparison of accomplishments with the goals and objectives for the reporting period;

(2) An annotated version of the approved budget that compares actual costs with budgeted costs by line item, and explains differences. The explanation should include, as appropriate, an analysis of cost overruns and high-cost units and a description of service requests not anticipated in the original budget;

(3) A description of the services provided, including:

(a) Number of requests received by topic area and source;

(b) Activity conducted to address each request (e.g., training, on-site technical assistance, phone consultation and other electronic communication, materials development and shipment) and mode of delivery (e.g., staff, consultant, other);

(c) Number of participants in each training or technical assistance event;

(d) Client feedback on the services rendered (including the aggregate evaluation of each event);

(e) Problems encountered in delivering services with recommendations for correcting them.

(4) List and dates of upcoming activities and events;

(5) Recommended training and technical assistance focus areas as suggested by analyses of service activity and trends;

(6) Discussion of developments that hindered, or may hinder, compliance with the cooperative agreement;

(7) List of materials submitted to the National Service Resource Center;

(8) List of effective practices and materials submitted to EpiCenter (Glossary).

b. Financial Report. Submit a Financial Status Report (SF Form 269A) semi-annually in three copies to the Office of Grants Management beginning October 31, 2001, for the period ending September 30, 2001. During the final year of the agreement, the provider must submit, in lieu of the last semi-annual financial status report, a final financial status report that is cumulative over the entire award period. This final report will be due not more than 90 days after the end of the agreement, unless the Corporation approves an extension. The provider must develop the capacity to submit financial status reports electronically.

c. Special Reports. Submit such special reports as requested by the Corporation.

4. Other Requirements

a. Assure that provider staff and consultants are knowledgeable of the Corporation's background, objectives, and programs.

b. Help plan and implement national provider meetings and training events as requested by the Corporation.

c. Collaborate in materials development and training events organized by other providers or the Corporation, as requested.

B. WBRS Requirements

The applicant selected under this Notice must provide services to system users in two areas: (1) System administration and management; and (2) end-user training and support. The requirements in these areas are addressed below.

1. System Administration and Management

The provider must base its need for system administration and management personnel, at minimum, on the system specifications, size, and activity level described above in the background segment of Section IV, Scope of Activities to be Supported. To ensure continuity, the provider will be required to establish at least a provisional arrangement with Interliant, Incorporated—the current web-hosting provider “ and to make arrangements for continuing to secure a web-hosting service for the balance of the cooperative agreement period. The applicant must include the cost of providing web-hosting services in its proposal.

a. Supervising the WBRS servers and web site, including any web-hosting contractor responsibilities. Supervising includes monitoring application efficiency, analyzing user activity, monitoring and preventing system downtime, and supervising and arranging for the archiving of data. Accordingly, the provider must:

(1) Regularly provide the Corporation an analysis of archive logs and site use that includes, at minimum, hit analyses, path analyses, page statistics, and session length. The provider must assist the Corporation in using these data to improve site usability and performance.

(2) In collaboration with the web-hosting provider, carefully monitor the site for downtime, brownouts, and other system delays. The provider must inform the Corporation whenever a system-performance issue arises.

b. Rectifying system problems. From time to time, WBRS requires reprogramming to address application bugs or incompatibilities with the National Service Trust (Glossary). The provider must coordinate closely with the Trust programming staff to ensure the smooth uploading of member and program data.

c. Effecting system enhancements. The Corporation may determine that certain system enhancements are required either to implement a change in policy or law or to increase the effectiveness of WBRS. To effect these changes, the provider must have:

(1) Staff proficient in Lotus Notes/Domino, Javascript, Lotus script, and Secure Socket Layer (SSL) programming to address simple to highly complex tasks.

(2) Programming and design capacity to develop a new version of WBRS should the Corporation direct it to do so.

2. End-User Training and Support

This requirement includes several parts. The ultimate goal of these elements is to ensure that WBRS users are well trained in using the system and have access to resources when they need additional help. At a minimum, provider services to satisfy this requirement must include the following elements: (1) A system for training WBRS users; (2) a technical assistance system; (3) a means for capturing and disseminating effective WBRS practices; and (4) a process for evaluating WBRS services. The following sections describe each of these requirements.

a. A system for training WBRS users. WBRS currently has over 5,000 users, most of whom have been trained by the current provider. As a result of staff turnover and program growth, however, there is a continuing need to deliver basic WBRS training. Advanced training is also required to prepare staff to make effective use of WBRS' management features. Finally, to institutionalize the use of WBRS, the Corporation has required that every state commission, national direct parent organization, tribe, and territory have at least one staff member who has been certified as a local WBRS administrator and therefore can train basic WBRS users, provide technical assistance on basic WBRS questions, and otherwise act as a resource within their network of programs. The provider must deliver training to satisfy these three requirements.

(1) Basic WBRS training. The provider must be able to train up to 600 individuals per year, nationwide, in the basic operation of WBRS. In so doing, the provider must assess the training needs among user groups and schedule training sessions in a way that balances ease of user access against cost.

(2) Advanced WBRS training. In Year One of the agreement, the provider must design a training session on using WBRS as a management tool (for example, in managing a budget or tracking member progress toward completion). The provider must determine the number and location of staff who wish to receive advanced training, and then schedule training sessions in a way that balances ease of user access against cost. In subsequent years, the provider must determine the need for additional advanced training prior to creating a training schedule.

(3) Local WBRS administrator training. In Year One of the agreement, the provider must assist the Corporation in identifying individuals who could become local WBRS administrators, who would assist grantees with their administration of WBRS. The provider must also design and conduct training that will provide those selected to be local WBRS administrators the requisite knowledge and skills. In subsequent years, the provider must assist the Corporation in determining the need for additional administrator training and provide it as necessary, balancing ease of user access against cost.

b. Technical Assistance System.

The provider must establish a technical assistance system that will enable WBRS users to request and receive help with system operations problems via e-mail or telephone. In so doing, the provider must, at minimum, provide the services outlined below (over the past 12 months, WBRS help desk requests have averaged 50 per week, and programming associated with system maintenance, repair, and enhancements has totaled about 5,700 hours):

(1) Maintain the present online WBRS help system to keep it current with WBRS operations;

(2) Specify the response-time standard it intends to maintain when addressing assistance requests;

(3) Maintain database tracking logs of all user-help and technical-assistance requests to ensure that all requests are addressed and that standards for customer service are maintained;

(4) Develop and implement a system for referring technical assistance requests to Corporation staff, WBRS programmers or others, as appropriate, if the help desk is not the appropriate source for addressing user needs or if user questions raise programming or policy issues.

c. Capturing and disseminating effective WBRS practices. The provider must facilitate the use of effective WBRS practices among system users by employing the following means:

(1) Documenting and transmitting effective practices through all training and technical assistance services;

(2) Submitting information on effective WBRS practices in the stipulated formats to EpiCenter and, as appropriate, to the National Service Resource Center, and encouraging their use.

d. Evaluating WBRS services. To facilitate improving WBRS services, the provider must evaluate its services and their effectiveness. At minimum, the provider must:

(1) Develop and submit a plan for evaluating the impact of training and technical assistance services, especially as they relate to training event objectives and the general requirements of this Notice;

(2) Conduct an assessment after each training and technical assistance event;

(3) Maintain records of these assessments and provide them to the Corporation or an authorized representative upon request.

Note: The Corporation may choose to conduct an independent assessment of provider performance.

V. Application Guidelines

A. Proposal Content and Submission

Applicants must submit one unbound, original proposal and two copies. Proposals may not be submitted by facsimile. Proposals must include the following:

1. Cover Page

The cover page must include the name, address, phone number, fax number, e-mail address, and World Wide Web site URL (if available) of the applicant organization and contact person; a 50-100 word summary of proposed activities.

2. Outline

A one-two page outline of all proposed activities and materials.

3. Service Delivery Plan

A bulleted narrative of no more than 20 double-spaced, single-sided, typed pages in no smaller than 12-point font that includes:

a. Proposed Strategy. The applicant's proposed strategy and rationale for providing WBRS training and technical assistance services to WBRS users for one year. The applicant must include the specific deliverables and requirements outlined in Section IV of this Notice as a starting point for a plan, and should present these deliverables and requirements in a way that reflects the applicant's areas of expertise and knowledge of national service audiences. It is not appropriate simply to re-list the tasks stated in this Notice. As appropriate, the applicant should also include the following information for each proposed activity, product, and event: type, number, frequency, audience and estimated audience size, content, skill level, desired learning outcomes, and proposed needs-assessment and continuous-improvement strategies.

b. Work Plan. A detailed one-year work plan and timeline for completing all system administration and management and end-user training and support activities. The work plan must include all deliverables and the tasks leading to them.

c. Evaluation Plan. A plan for regularly evaluating system performance and service delivery and reporting findings and proposed improvements to the Corporation.

4. Course Outlines and Descriptions

A 75-100 word sample course description and off-the-shelf course outline for each of two courses in the applicant's specialty area. One course should be a basic two-five day introductory course for 15-20 inexperienced participants and the other should be a two-five day advanced course for 15-20 experienced participants. Course outlines should include desired learning outcomes and the activities that will lead to them.

5. Technology Strategy

A one-page description of how the applicant proposes to use technology, especially e-learning, to broaden and extend effectively the reach of training. The description should include the rationale for the proposed approach, the target audience, course level, concepts and skills to be delivered, desired learning outcomes, and how the outcomes will be achieved.

6. Description of Organizational Capacity

a. Organizational Chart. A chart that depicts the applicant's organization and, as applicable, its position within a parent organization.

b. Narrative. A narrative of no more than three double-spaced, single-sided, typed pages in no smaller than 12-point font which describes:

(1) The organization's capacity to provide system administration, management, training, and technical assistance services to geographically dispersed users, and discusses recent work similar to that being proposed.

(2) The organization's knowledge of AmeriCorps.

(3) The organization's knowledge of and proficiency in the programming and use of Lotus Notes/Domino. Include references related to this work.

(4) Staff backgrounds and strengths. (Include in an appendix a list and resumes of management staff and their anticipated rates of pay; for other staff and/or expert consultants include a summary of their relevant background. This information is not subject to the page limits that are otherwise applicable).

7. Budget

A detailed, line-item budget with hours and costs organized by personnel, task and sub-task and related to the activities and deliverables outlined in the introductory narrative and work plan.

a. Include staff and expert-consultant hours and pay rates being proposed by task and sub-task, and indicate by task and sub-task the types and quantities of other direct costs being proposed (for example, amounts of travel; volume of other task-related resources, such as communications, postage, etc.). Costs in proposed budgets must consist solely of costs allowable under applicable cost principles found in OMB Circulars.

b. Provide a budget narrative that includes an explanation of the basis for the cost estimates. The organization of the budget narrative should parallel that of the line-item budget. Each of the elements and sub-elements that comprise the totals of the individual budget lines must be fully explained in the narrative. The narrative should show how each cost was derived, using equations to reflect all factors considered. Also provided should be the anticipated unit cost (with derivation) of the various deliverables, such as training events and technical assistance interventions.

B. Selection Criteria

To ensure fairness to all applicants, the Corporation reserves the right to take remedial action, up to and including disqualification, in the event a proposal fails to comply with the requirements relating to page limits, line spacing, and font size. The Corporation will assess applications based on the criteria listed below.

1. Quality (30%)

The Corporation will consider the quality of the proposed activities based on:

a. Understanding of the Needs of AmeriCorps Programs. Evidence of the applicant's understanding of the needs of AmeriCorps programs, the principles of adult learning, and the training and technical assistance principles and requirements outlined in this Notice.

b. Soundness of Proposed Strategy. Evidence of the responsiveness, comprehensiveness, and creativity of the applicant's approach.

2. Organizational and Personnel Capacity (30%)

The Corporation will consider the organizational capacity of the applicant to deliver the proposed services based on:

a. Experience. Evidence of experience in providing systems management and administration services, providing online and telephone-based technical support, designing or maintaining online reporting systems, and delivering high-quality training and technical assistance to adults.

b. Staff. Evidence of training or experience in relevant content areas.

c. Grant Experience. Demonstrated ability to manage a federal grant or apply sound fiscal management principles to grants and cost accounting.

d. Capacity. Demonstrated ability to provide systems administration, software development, and training and technical assistance services nationwide.

3. Evaluation (10%)

a. Scope of Plan. Proposed method for assessing the need for and effectiveness of services and products delivered under the award.

b. Continuous Improvement. Proposed method for using assessments of services and products to modify and improve subsequent services and products.

4. Budget (30%)

The Corporation will consider the budget based on the factors below. Applicants should be mindful that a demonstrated commitment to providing services in the most cost-effective manner possible will be a major consideration in the evaluation of proposals. (Provider match is not required.)

a. Cost-effectiveness. Cost of each proposed activity in relation to the scope and depth of the services proposed (i.e., the number of states, programs, and individuals the proposed activities are intended to reach).

b. Scope. Scope of the proposed service activity (e.g., the number of states, programs, and individuals the proposed activities are intended to reach).

c. Clarity. The clarity and thoroughness of the budget and budget narrative.

VI. Glossary of Terms

EpiCenter

A database-enabled web site designed to share effective program practices and knowledge across the national service network, EpiCenter disseminates ideas and information that lead to program improvement and successful outcomes for beneficiaries, participants, institutions, and communities. These practices are based on knowledge gleaned from practical experience, technical assistance efforts, and empirical research. The evolving database currently contains practices related to education, the environment, public safety and other human needs (including health and housing), service-learning, and common program management concerns (e.g., recruiting, volunteer management, partnership, and sustainability). The database can be visited at www.nationalservice.org/resources/epicenter/.

Grantees

Entities funded directly by the Corporation. These include, but are not limited to, state commissions; state education agencies; Tribes and U.S. Territories; national direct parent organizations; institutions, consortia, and organizations of higher education; local governments; and non-profit organizations.

National Service Resource Center (NSRC)

Currently managed by ETR Associates, Inc., Scotts Valley, California, the National Service Resource Center (NSRC) serves as a repository of information on all aspects of national service. The NSRC manages most of the Corporation's listservs, and its web site includes a calendar of training events and links to all current providers. The NSRC also has a lending library. Training and technical assistance publications are posted or distributed by the NSRC. Providers will be required to submit copies of their training materials and scripts to the NSRC.

National Service Trust

Provides a secure repository for education awards earned by eligible AmeriCorps participants. It is based on enrollment and exit data provided by AmeriCorps grantees and members. The data are subject to the scrutiny of annual, systematic financial audit. The systems used to enter and store the data use edit and range checks. Optical scanning techniques are used to enter the data electronically.

Sub-grantees

Many Corporation grantees sub-grant a significant portion of their funds to other entities. Examples include state commissions that, through a competitive process, fund AmeriCorps programs throughout a state, and state education agencies that, through competition, fund school systems throughout a state. By regulation, Senior Corps grantees are not permitted to sub-grant.

Dated: March 9, 2001.
David B. Rymph,
Director (Acting), Department of Evaluation and Effective Practices, Corporation for National and Community Service.

[FR Doc. 01-6394 Filed 3-14-01; 8:45 am]

BILLING CODE 6050-$$-P